DEPARTMENT OF ENERGY

Federal Energy Regulatory Commission

[Docket No. CP02-45-000]

Texas Eastern Transmission, LP; Notice of Site Visit

January 31, 2002.

On Wednesday, February 20, 2002, the Federal Energy Regulatory Commission (FERC) staff will conduct a site visit of Texas Eastern Transmission, L.P.'s (Texas Eastern) Hanging Rock Lateral Project in Scioto and Lawrence Counties, Ohio. We will visit sites along the 9.6-mile-long pipeline project.

We will meet at the following location at 9 AM on Wednesday February 20, 2002: Texas Eastern's Right-of-Way Office, 433 Center Street, Wheelersburg, Ohio 45694.

For further information call the Office of External Affairs, at (202) 208-0004.

Linwood A. Watson, Jr.,
Acting Secretary.

[FR Doc. 02-2775 Filed 2-5-02; 8:45 am]

BILLING CODE 6717-01-P